DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT:

OFAC: Associate Director for Global Targeting, tel.: 202-622-2420; Assistant Director for Licensing, tel.: 202-622-2480; Assistant Director for Regulatory Affairs, tel.: 202-622-4855; Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On January 20, 2020, OFAC determined that the property and interests in property subject to U.S. jurisdiction of the following persons are blocked under the relevant sanctions authority listed below.

Entities

1. KOREA NAMGANG TRADING CORPORATION (a.k.a. DPRK NAMGANG TRADING COMPANY), Pyongyang, Korea, North; Secondary sanctions risk: North Korea Sanctions Regulations, sections 510.201 and 510.210 [DPRK3] [DPRK-NKSPEA].

Designated pursuant to section 2(a)(iv) of Executive Order 13722 of March 15, 2016, “Blocking Property of the Government of North Korea and the Worker's Party of Korea, and Prohibiting Certain Transactions With Respect to North Korea” (E.O. 13722), for having engaged in, facilitated, or been responsible for the exportation of workers from North Korea, including exportation to generate revenue for the Government of North Korea or the Workers Party of Korea.

Also designated pursuant Section 104(b)(1)(L) of the North Korea Sanctions and Policy Enhancement Act of 2016, Pub. L. 114-122, as amended by section 311 of the Countering America's Adversaries Through Sanctions Act (Pub. L. 115-44) (NKSPEA, as amended) for knowingly, directly or indirectly, engaged in, facilitated, or having been responsible for the exportation of workers from North Korea in a manner intended to generate significant revenue, directly or indirectly, for use by the Government of North Korea or by the Worker's Party of Korea.

Designated pursuant to section 2(a)(vii) of E.O. 13722, for having materially assisted, sponsored, or provided financial, material, or technological support for, or goods and services to or in support of KOREA NAMGANG TRADING CORPORATION, an entity whose property and interests in property are blocked pursuant to E.O. 13722.

Also designated pursuant Section 104(b)(1)(A) of NKSPEA, as amended, knowingly engaging in, contributing to, assisting, sponsoring, or providing financial, material or technological support for, or goods and services in support of, KOREA NAMGANG TRADING CORPORATION, an entity whose property and interests in property are blocked pursuant to E.O. 13722 and NKSPEA, as amended.

Also designated pursuant to section 2(a)(vii) of E.O. 13722, for having materially assisted, sponsored, or provided financial, material, or technological support for, or goods and services to or in support of NAMGANG CONSTRUCTION, an entity whose property and interests in property are blocked pursuant to E.O. 13722.

Dated: January 14, 2020.
Andrea M. Gacki,
Director, Office of Foreign Assets Control.

[FR Doc. 2020-00771 Filed 1-17-20; 8:45 am]

BILLING CODE 4810-AL-P